DEPARTMENT OF HEALTH AND HUMAN SERVICES

National Institutes of Health

Center for Scientific Review; Amended Notice of Meeting

Notice is hereby given of a change in the meeting of the Center for Scientific Review Special Emphasis Panel PAR Panel: Native American Research Centers for Health (NARCH) January 12, 2026, 11:00 a.m. to January 12, 2026, 06:00 p.m., National Institutes of Health, Rockledge II, 6701 Rockledge Drive, Bethesda, MD 20892 which was published in the Federal Register on November 25, 2025, 90 FR 53346, Doc No. 2005-21004.

This meeting is being amended to change the start time from 11:00 a.m. to 9:00 a.m. The meeting is closed to the public.

Dated: December 23, 2025.
Sterlyn H. Gibson,
Program Specialist, Office of Federal Advisory Committee Policy.

[FR Doc. 2025-24107 Filed 12-30-25; 8:45 am]

BILLING CODE 4140-01-P